DEPARTMENT OF THE INTERIOR

Fish and Wildlife Service

50 CFR Part 17

[Docket No. FWS-HQ-ES-2023-0053; FF09E21000 FXES1111090FEDR 234]

RIN 1018-BG55

Endangered and Threatened Wildlife and Plants; Endangered Species Status for Sira Curassow and Southern Helmeted Curassow

AGENCY: Fish and Wildlife Service, Interior.

ACTION: Proposed rule.

SUMMARY: We, the U.S. Fish and Wildlife Service (Service), propose to list the Sira curassow (Pauxi koepckeae) and southern helmeted curassow (Pauxi unicornis), two bird species from South America, as endangered species under the Endangered Species Act of 1973, as amended (Act). If we finalize this rule as proposed, it would add these species to the List of Endangered and Threatened Wildlife and extend the Act's protections to these species.

DATES: We will accept comments received or postmarked on or before July 31, 2023. Comments submitted electronically using the Federal eRulemaking Portal (see ADDRESSES, below) must be received by 11:59 p.m. eastern time on the closing date. We must receive requests for a public hearing, in writing, at the address shown in FOR FURTHER INFORMATION CONTACT by July 17, 2023.

ADDRESSES: You may submit comments by one of the following methods:

(1) Electronically: Go to the Federal eRulemaking Portal: https://www.regulations.gov. In the Search box, enter FWS-HQ-ES-2023-0053, which is the docket number for this rulemaking. Then, click on the Search button. On the resulting page, in the panel on the left side of the screen, under the Document Type heading, check the Proposed Rule box to locate this document. You may submit a comment by clicking on “Comment.”

(2) By hard copy: Submit by U.S. mail to: Public Comments Processing, Attn: FWS-HQ-ES-2023-0053, U.S. Fish and Wildlife Service, MS: PRB/3W, 5275 Leesburg Pike, Falls Church, VA 22041-3803.

We request that you send comments only by the methods described above. We will post all comments on https://www.regulations.gov. This generally means that we will post any personal information you provide us (see Information Requested, below, for more information).

Availability of supporting materials: Supporting materials, such as the species status assessment report, are available at https://www.regulations.gov at Docket No. FWS-HQ-ES-2023-0053.

FOR FURTHER INFORMATION CONTACT: Rachel London, Chief, Branch of Delisting and Foreign Species, Ecological Services Program, U.S. Fish and Wildlife Service, MS: ES, 5275 Leesburg Pike, Falls Church, VA 22041-3803; telephone 703-358-2171. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Information Requested

We intend that any final action resulting from this proposed rule will be based on the best scientific and commercial data available and be as accurate and as effective as possible. Therefore, we request comments or information from other governmental agencies, Native American Tribes, the scientific community, industry, or any other interested parties concerning this proposed rule. We particularly seek comments concerning:

(1) The species' biology, range, and population trends, including:

(a) Biological or ecological requirements of the species, including habitat requirements for feeding, breeding, and sheltering;

(b) Genetics and taxonomy;

(c) Historical and current range, including distribution patterns and the locations of any populations of these species;

(d) Historical and current population levels, and current and projected trends; and

(e) Past and ongoing conservation measures for the species, their habitats, or both.

(2) Threats and conservation actions affecting the species, including:

(a) Factors that may be affecting the continued existence of the species, which may include habitat destruction, modification, or curtailment; overutilization; disease; predation; the inadequacy of existing regulatory mechanisms; or other natural or manmade factors.

(b) Biological, commercial trade, or other relevant data concerning any threats (or lack thereof) to these species.

(c) Existing regulations or conservation actions that may be addressing threats to these species.

(d) Existing regulations whether either of these species are protected species in their range countries.

(3) Additional information concerning the historical and current status of these species.

Please include sufficient information with your submission (such as scientific journal articles or other publications) to allow us to verify any scientific or commercial information you include.

Please note that submissions merely stating support for, or opposition to, the action under consideration without providing supporting information, although noted, do not provide substantial information necessary to support a determination. Section 4(b)(1)(A) of the Act (16 U.S.C. 1533(b)(1)(A)) directs that determinations as to whether any species is an endangered or a threatened species must be made solely on the basis of the best scientific and commercial data available.

You may submit your comments and materials concerning this proposed rule by one of the methods listed in ADDRESSES. We request that you send comments only by the methods described in ADDRESSES.

If you submit information via https://www.regulations.gov, your entire submission—including any personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing this proposed rule, will be available for public inspection on https://www.regulations.gov.

Because we will consider all comments and information we receive during the comment period, our final determinations may differ from this proposal. Based on the new information we receive (and any comments on that new information), we may conclude that these species are threatened instead of endangered, or we may conclude that these species do not warrant listing as either an endangered species or a threatened species.

Public Hearing

Section 4(b)(5) of the Act (16 U.S.C. 1533(b)(5)) provides for a public hearing on this proposal, if requested. Requests must be received by the date specified in DATES. Such requests must be sent to the address shown in FOR FURTHER INFORMATION CONTACT. We will schedule a public hearing on this proposal, if requested, and announce the date, time, and place of the hearing, as well as how to obtain reasonable accommodations, in the Federal Register at least 15 days before the hearing. We may hold the public hearing in person or virtually via webinar. We will announce any public hearing on our website, in addition to the Federal Register. The use of virtual public hearings is consistent with our regulations at 50 CFR 424.16(c)(3).

Previous Federal Actions

We received a petition from the International Council for Bird Preservation to add 53 foreign bird species, including the southern helmeted curassow, to the List of Endangered and Threatened Wildlife on May 6, 1991. On December 16, 1991 (56 FR 65207), we made a substantial 90-day finding that the 53 species may be warranted for listing. On March 28, 1994 (59 FR 14496), we identified the southern helmeted curassow as a candidate under the Act. Candidates are those fish, wildlife, and plants for which we have on file sufficient information on biological vulnerability and threats to support preparation of a listing proposal, but for which development of a listing rule is precluded by other higher priority listing activities. Subsequently, on May 21, 2004, we considered new information for 73 foreign taxa, including the southern helmeted curassow, for which we had previously found listing to be warranted but precluded (69 FR 29354). The 2004 notice retained warranted but precluded findings for 51 of the 73 foreign taxa based on information gathered since 1995; we determined that the southern helmeted curassow should retain its status as a candidate species.

At the time we identified the southern helmeted curassow (Pauxi unicornis) as a candidate in 1994 and the subsequent review in 2004, the southern helmeted curassow and Sira curassow were considered subspecies of Pauxi unicornis. However, in 2014, the Sira curassow (Pauxi koepckeae) was recognized as a full species and became a candidate species under the Act in 2016 (81 FR 71457; October 17, 2016).

Peer Review

In 2022, a species status assessment (SSA) team prepared an SSA report for the Sira curassow and southern helmeted curassow. The SSA team was composed of Service biologists, in consultation with other species experts. The SSA report represents a compilation of the best scientific and commercial data available concerning the status of the species, including the impacts of past, present, and future factors (both negative and beneficial) affecting the species.

In accordance with our joint policy on peer review published in the Federal Register on July 1, 1994 (59 FR 34270), and our August 22, 2016, memorandum updating and clarifying the role of peer review of listing actions under the Act, we solicited independent scientific review of the information contained in the SSA report. The Service sent the SSA report to five independent peer reviewers and received one response. Results of this structured peer-review process can be found at Docket No. FWS-HQ-ES-2023-0053 on https://www.regulations.gov. In preparing this proposed rule, we incorporated the results of the review, as appropriate, into the SSA report, which is the foundation for this proposed rule.

Summary of Peer Reviewer Comments

As discussed in Peer Review above, we received comments from one peer reviewer on the draft SSA report. We reviewed all comments we received from the peer reviewer for substantive issues and new information regarding the information contained in the SSA report.

The peer reviewer generally concurred with our methods and conclusion, and provided additional information, clarifications, and suggestions, including updates on the threat of forest loss within the range of the southern helmeted curassow. Additionally, the peer reviewer provided updated observations and distribution of the southern helmeted curassow throughout its range, particularly in the northern extent of its range. The peer reviewer's comments did not result in substantive changes to our analysis and conclusions within the SSA report. We did not receive any peer-review comments regarding the Sira curassow.

Proposed Listing Determination

Background

The Sira curassow (Pauxi koepckeae), which is endemic to central Peru, and southern helmeted curassow (or horned curassow; Pauxi unicornis), which is endemic to central Bolivia, are gallinaceous birds (relating to the order Galliformes of heavy-bodied, largely terrestrial birds in the Cracidae family (subfamily Cracinae; del Hoyo 1994, in Hosner et al. 2016, p. 6; del Hoyo et al. 2020a, unpaginated)). Both species are large (83-94 centimeters (32-37 inches) in length) and relatively heavy-bodied (about 3.6 kilograms (8 pounds)) with bright red bills and a pale blue “helmet” (casque) atop their heads (del Hoyo et al. 2020b, unpaginated).

Both curassow species occur on the eastern side of the Andes Mountains of South America, although their ranges do not overlap and are separated by more than 1,000 kilometers (621 miles) (Gastañaga et al. 2007, p. 63). The Sira curassow is resident in cloud forests at mid to high elevation (1,100 to 1,500 meters (3,609 to 4,921 feet) above sea level (asl); Begazo 2022, unpaginated; Beirne et al. 2017, p. 150; Gastañaga et al. 2011, p. 268) and is known only from the Cerros del Sira in central Peru, which is an isolated mountain outcrop of the Peruvian Andes. Almost all the species' range in the El Sira Communal Reserve (Birdlife International (BLI) 2023a, unpaginated; Gastañaga et al. 2011, p. 269; Gastañaga et al. 2007, p. 63; Tobias and del Hoyo 2006, p. 61). The southern helmeted curassow is resident at lower elevations (400 to 1,400 meters (1,312 to 4,593 feet) asl) in upper tropical and lower montane zones in central Bolivia (Herzog and Kessler 1998, pp. 46-47; Cox et al. 1997, p. 200; Cordier 1971, p. 10; Birds of Bolivia 2019, unpaginated; Beirne et al. 2017, p. 150), although most observations are between 500 and 900 meters (1,640 to 2,953 feet) asl (Armonía 2021, p. 3). The species occurs only within three national parks in central Bolivia: Amboró, Carrasco, and Isiboro-Securé Indigenous Territory and National Park (TIPNIS) (BLI 2023b, unpaginated).

Both the Sira curassow and southern helmeted curassow are endemic to small areas in relatively narrow elevational bands and are considered rare, locally uncommon, and their populations are decreasing (BLI 2023a, unpaginated; 2023b, unpaginated). Population densities for both species are estimated at less than one individual per square kilometer. The Sira curassow was surveyed in 2006 and 2008, but rangewide surveys have not occurred for this species (Gastañaga et al. 2011, p. 273). The species was observed in one population at four locations, all located within 30 km of each other (Gastañaga et al. 2011, p. 273). The Sira curassow's population is very small (50-249 mature individuals) and occurs within 550 square kilometers (212 square miles) (BLI 2023a, unpaginated; MacLeod and Gastañaga in litt. 2014, cited in BLI 2018a, unpaginated). The southern helmeted curassow was surveyed in 2018 and 2021 in the three national parks where the species resides. The southern helmeted curassow's population is also small and is less than what it was historically, including declining by 90 percent over the past 20 years (Boorsma 2023, pers. comm., unpaginated). The population is currently estimated at 1,000-4,999 individuals within 10,700 square kilometers (4,131 square miles) (BLI 2023b, unpaginated; Armonía 2018, pp. 3-4; Boorsma 2023, pers. comm., unpaginated). Information about the status of both species populations is supplemented with anecdotal information based on interviews with local indigenous communities. The following table presents population information for each species:

Table—Sira Curassow and Southern Helmeted Curassow Population Size, Country of Origin, and Distribution. as Noted Above, the Population Trend for These Species is Decreasing
Species | Population | Country | Range/distribution
Sira curassow | 50 to 249 mature individuals | Peru | Cerros del Sira; in the El Sira Communal Reserve.
Southern helmeted curassow | 1,000 to 4,999 individuals | Bolivia | Amboró and Carrasco National Parks and Isiboro-Securé Indigenous Territory and National Park (TIPNIS).

The Sira curassow and southern helmeted curassows are both large, ground-dwelling birds very similar in appearance and life history. Large body size in tropical birds is often associated with large territory size, small population size, and low reproductive rate (Pearson et al. 2010, p. 508). The Sira curassow and southern helmeted curassow likely take at least 2 to 3 years to reach sexual maturity and have low reproductive outputs as females lay one egg per clutch (Cox et al. 1997, p. 207; Banks 1998, p. 154). We are not aware of how many clutches per year these species produce in the wild; however, in captivity, the southern helmeted curassow produced four clutches within one year, each with one egg per clutch (Banks 1998, p. 154). Generation time, which is the average time between two consecutive generations in lineages of a population, is estimated at 14.5 years (BLI 2023a and 2023b, unpaginated). Detailed information on the biology of both species is limited because, despite their relatively large size, these species are difficult to detect and not well studied.

Regulatory and Analytical Framework

Regulatory Framework

Section 4 of the Act (16 U.S.C. 1533) and the implementing regulations in title 50 of the Code of Federal Regulations set forth the procedures for determining whether a species is an endangered species or a threatened species, issuing protective regulations for threatened species, and designating critical habitat for endangered and threatened species. In 2019, jointly with the National Marine Fisheries Service, the Service issued a final rule that revised the regulations in 50 CFR part 424 regarding how we add, remove, and reclassify endangered and threatened species and the criteria for designating listed species' critical habitat (84 FR 45020; August 27, 2019). On the same day, the Service also issued final regulations that, for species listed as threatened species after September 26, 2019, no longer automatically applied the prohibitions that section 9 of the Act applies to endangered species (84 FR 44753; August 27, 2019).

The Act defines an “endangered species” as a species that is in danger of extinction throughout all or a significant portion of its range, and a “threatened species” as a species that is likely to become an endangered species within the foreseeable future throughout all or a significant portion of its range. The Act requires that we determine whether any species is an endangered species or a threatened species because of any of the following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to or are reasonably likely to negatively affect individuals of a species. The term “threat” includes actions or conditions that have a direct impact on individuals (direct impacts), as well as those that affect individuals through alteration of their habitat or required resources (stressors). The term “threat” may encompass—either together or separately—the source of the action or condition or the action or condition itself.

However, the mere identification of any threat(s) does not necessarily mean that the species meets the statutory definition of an “endangered species” or a “threatened species.” In determining whether a species meets either definition, we must evaluate all identified threats by considering the species' expected response and the effects of the threats—in light of those actions and conditions that will ameliorate the threats—on an individual, population, and species level. We evaluate each threat and its expected effects on the species, then analyze the cumulative effect of all of the threats on the species as a whole. We also consider the cumulative effect of the threats in light of those actions and conditions that will have positive effects on the species, such as any existing regulatory mechanisms or conservation efforts. The Secretary determines whether the species meets the definition of an “endangered species” or a “threatened species” only after conducting this cumulative analysis and describing the expected effect on the species now and in the foreseeable future.

The Act does not define the term “foreseeable future,” which appears in the statutory definition of “threatened species.” Our implementing regulations at 50 CFR 424.11(d) set forth a framework for evaluating the foreseeable future on a case-by-case basis. The term “foreseeable future” extends only so far into the future as we can reasonably determine that both the future threats and the species' responses to those threats are likely. In other words, the foreseeable future is the period of time in which we can make reliable predictions. “Reliable” does not mean “certain”; it means sufficient to provide a reasonable degree of confidence in the prediction. Thus, a prediction is reliable if it is reasonable to depend on it when making decisions.

It is not always possible or necessary to define the foreseeable future as a particular number of years. Analysis of the foreseeable future uses the best scientific and commercial data available and should consider the timeframes applicable to the relevant threats and to the species' likely responses to those threats in view of its life-history characteristics. Data that are typically relevant to assessing the species' biological response include species-specific factors such as lifespan, reproductive rates or productivity, certain behaviors, and other demographic factors.

Analytical Framework

The SSA report documents the results of our comprehensive biological review of the best scientific and commercial data regarding the status of the species, including an assessment of the potential threats to the species. The SSA report does not represent our decision on whether the species should be proposed for listing as an endangered or threatened species under the Act. However, it does provide the scientific basis that informs our regulatory decisions, which involve the further application of standards within the Act and its implementing regulations and policies.

To assess the viability of Sira curassow and southern helmeted curassow, we used the three conservation biology principles of resiliency, redundancy, and representation (Shaffer and Stein 2000, pp. 306-310). Briefly, resiliency is the ability of the species to withstand environmental and demographic stochasticity (for example, wet or dry, warm or cold years), redundancy is the ability of the species to withstand catastrophic events (for example, droughts, large pollution events), and representation is the ability of the species to adapt to both near-term and long-term changes in its physical and biological environment (for example, climate conditions, pathogens). In general, species viability will increase with increases in (or decrease with decreases in) resiliency, redundancy, and representation (Smith et al. 2018, p. 306). Using these principles, we identified the species' ecological requirements for survival and reproduction at the individual, population, and species levels, and described the beneficial and risk factors influencing the species' viability.

The SSA process can be categorized into three sequential stages. During the first stage, we evaluated the individual species' life-history needs. The next stage involved an assessment of the historical and current condition of the species' demographics and habitat characteristics, including an explanation of how the species arrived at its current condition. The final stage of the SSA involved making predictions about the species' responses to positive and negative environmental and anthropogenic influences. Throughout all of these stages, we used the best available data to characterize viability as the ability of a species to sustain populations in the wild over time. We use this data to inform our regulatory decision.

The following is a summary of the key results and conclusions from the SSA report; the full SSA report can be found at Docket No. FWS-HQ-ES-2023-0053 on https://www.regulations.gov.

Summary of Biological Status and Threats

In this discussion, we review the biological condition of the species and their resources, and the threats that influence the species' current and future condition, in order to assess the species' overall viability and the risks to that viability.

The Sira curassow and southern helmeted curassows are both large, ground-dwelling birds very similar in appearance and life history. These species occur in the Yungas forests and adjacent evergreen forest and rely on dense to semi-open primary forested areas with relatively open understory.

Large tropical birds, such as the two curassow species, are often associated with large territory size (Pearson et al. 2010, p. 508; Thorton et al. 2012, p. 572; Rios et al. 2021, p. 418). However, the forest area or patch size required for the Sira curassow and southern helmeted curassow is unknown. These species are primarily frugivores (fruit-eaters) and they require larger forested patch sizes than non-frugivores because they depend on naturally patchy resources in larger home ranges. Fragmentation into smaller forest patches could cause scarcity and a reduction of food resources within those smaller fragments. As patch size decreases, large-bodied species are generally at a disadvantage because they need more space to nest and forage compared to small-ranging species (Kattan et al. 1994, pp. 141-143; Lees and Peres 2009, pp. 286-288; Lees and Peres 2010, p. 619; Vetter et al. 2011, p. 6; Thorton et al. 2012, p. 572; Kattan et al. 2016, pp. 27-28; Rios et al. 2021, pp. 416-418). The forested and steep slopes where the species occur may provide some protection from human influence.

Hunting, habitat loss and degradation, small population size, climate change, and protected areas are the main factors that affect the species' viability throughout their ranges. Hunting is the primary factor that negatively affects the Sira curassow and southern helmeted curassow throughout their respective ranges (del Hoyo et al. 2020a, 2020b, unpaginated). Habitat loss and degradation affect both species, although to a lesser degree than hunting (Rios et al. 2021, p. 418). Limited loss of forest cover and degradation has occurred within the range of these species because of small-scale agriculture such as coca plantations and roadbuilding. However, human incursions into the protected areas are likely to increase. Because habitat loss and hunting pressure often work in tandem, further human encroachment into their habitats that results in deforestation, roadbuilding, and other land clearance creates opportunities to increase human encounters and hunting opportunities (Laurance et al. 2009, p. 662). Literature reviews of several species in the cracid family, including curassows, demonstrate that they are more likely to persist in forested landscapes with low human density and greater distance from human settlements, primarily because these forested areas would be unaffected, or minimally affected by hunting pressure (Thorton et al. 2012, p. 572; Kattan et al. 2016, pp. 27-28; Rios et al. 2021, pp. 416-418).

Climate change will result in additional loss of forested habitat for these species by shifting these species' habitat upslope, reducing these species' range because the geometric shape of mountains means there is less area on mountain slopes as elevation increases (Chen et al. 2011, entire; Freeman et al. 2018, p. 11983; Forero-Medina et al. 2011, entire; Sekercioglu et al. 2012, p. 3). A meta-analysis of existing data for a suite of taxonomic groups across multiple geographic regions and a study of tropical birds within the El Sira Communal Reserve in Peru showed a median shift to higher elevations of approximately 10 meters per decade (Chen et al 2011, p. 1024; Forero-Medina et al. 2011, p. 4). In the case of tropical bird species in the El Sira Communal Reserve, a gradual, upward shift occurred because of changes in temperature, habitat conditions, and the availability of food resources (Forero-Medina et al. 2011, p. 4). Because birds are endothermic and may tolerate a wider range of temperatures, species that shift their ranges may be responding more to gradual changes in habitat availability, food resources based on long-lived elements of their ecosystem (trees), and response of competitors, than to temperatures, per se (Forero-Medina et al. 2011, p. 4). However, habitat expansion to newly suitable areas will not take place at the same rate as habitat loss due to climate change, especially for relatively sedentary tropical forest species (Sekercioglu et al. 2012, p. 12). Vegetation changes makes it more difficult for species to find suitable habitat that will provide their preferred climate envelope and nesting and foraging needs (Forero-Medina et al. 2011, p. 4).

Almost all the Sira curassow's range is within the El Sira Communal Reserve in Peru. The southern helmeted curassow's range in Bolivia is within three national parks: Amboró, Carrasco, and TIPNIS. The protected areas where these species occur were designated by laws in Peru and Bolivia and are primarily inhabited by local indigenous communities that share management responsibilities with government ministries. The protected areas have been somewhat successful at limiting the magnitude of negative effects to biodiversity within the protected area boundaries. However, the lack of personnel and financial resources make the enforcement of the protected area boundaries difficult, which has resulted in the loss of wildlife because of continued hunting by locals and people from outside the protected areas and loss of primary forest resulting from small-scale agriculture, illegal logging, and roadbuilding within the protected area boundaries (Bucklin 2010, p. 44; Solano 2010, p. 37).

Conservation Efforts and Regulatory Mechanisms

Our evaluation of the status of the species takes into account the extent to which threats are reduced or removed as a result of conservation efforts or existing regulatory mechanisms.

Within Peru and Bolivia, we do not have information on whether either of these species are protected species under existing laws in their range countries. However, the Sira curassow and southern helmeted curassow reside in protected areas throughout their respective ranges. Almost all the Sira curassow's range is within the El Sira Communal Reserve in Peru. The southern helmeted curassow's range in Bolivia is within three national parks: Amboró, Carrasco, and TIPNIS.

In Peru, policies on protected areas were established in the Natural Protected Areas Act (1997), the Master Plan for Natural Protected Areas (1999), and the General Environmental Act (2005) (Solano 2010, pp. 6-7, 46-49). The primary objective of the protected areas is the conservation of biological diversity (Solano 2010, pp. 12-13). Protected areas are monitored by the Intendancy of Protected Natural Areas and managed by the National Service for Natural Protected Areas, a specialized technical body under the Ministry of the Environment (Solano 2010, p. 6; Parkswatch 2003, p. 6).

The El Sira Communal Reserve was established in 2001 by a Supreme Decree (038-2001-AG). The reserve is 616,413 hectares (1.5 million acres) and was established for the conservation of wildlife and to acknowledge the rights of indigenous communities on their lands and consider the traditions and cultures of the local communities (Solano 2010, pp. 10-15, 50; WorldBank 2007, pp. 13-15; Parkswatch 2003, p. 5). The reserve is classified as an International Union for Conservation of Nature (IUCN) category VI protected area, which are protected areas that conserve ecosystems and habitats together with associated cultural values and traditional natural resource management systems (IUCN 2008, p. 2). A portion of the area is under sustainable natural resource management and where low-level non-industrial use of natural resources compatible with nature conservation is seen as one of the main aims of the area (IUCN 2023, unpaginated; UN Environment Programme 2020, unpaginated).

In Bolivia, the Political Constitution of the State (2009) defines protected areas as a common good that is part of the natural and cultural heritage of the country and that fulfills environmental, cultural, social, and economic functions for sustainable development. Likewise, the Framework Law of Mother Earth and Integral Development for Living Well (No. 300; 2012) indicates the System of Protected Areas as one of the main instruments for biodiversity (Elkins et al. 2014, p. 102; Lexivox 2023, unpaginated).

The Bolivian National Protected Area System was established in 1992 through Environmental Law No. 1333 as a collective of interlinked protected areas of different categories (Wildlife Conservation Society (WCS) 2017, unpaginated). The core of the system is the national protected areas, which includes Amboró, Carrasco, and TIPNIS and covers a total of 20 percent of Bolivia. The National Service of Protected Areas (Sernap) oversees the protected areas of national interest to conserve biological and cultural diversity (Sernap 2023, unpaginated). The involvement of local and indigenous communities in park management plays a vital role to recognize the rights of indigenous and local communities to preserve their cultural identity, value systems, knowledge and traditions, and territory (WCS 2017, unpaginated).

Overall, the protected areas in Peru and Bolivia were designated by laws and have been somewhat successful to limit the magnitude of negative effects to biodiversity within the protected area boundaries. The protected areas are in remote areas and far from government services, which makes enforcement of the protected area boundaries difficult because there is a lack of personnel and financial resources. This has resulted in loss of wildlife because of continued hunting and loss of primary forest within the protected area boundaries (Solano 2010, p. 37; Armonía 2018, p. 7).

The nonprofit, nongovernmental organization Asociatión Armonía (Armonía) has initiated educational campaigns to raise awareness and discourage hunting of both species. The program works with local and indigenous communities to protect wild bird populations through management of protected areas and reducing threats (Armonía 2018, p. 1; Gastañaga et al. 2011, p. 277; Gastañaga 2006, p. 11; Gastañaga and Hennessey 2005, p. 21).

The Sira curassow is classified as critically endangered on the IUCN Red List (IUCN 2023a, unpaginated). Sira curassow is not known to be in international trade and is not included in the Appendices to the Convention on International Trade in Endangered Species of Wild Fauna and Flora (CITES).

The southern helmeted curassow is classified as critically endangered on the IUCN Red List (IUCN 2023b, unpaginated). Trade has not been noted internationally and the species is not included in the Appendices to CITES. The species is listed on Annex D of the European Union Wildlife Trade Regulations; species listed on Annex D require the importer to complete an import-notification form.

Current Condition

We considered the ecology of the Sira curassow and southern helmeted curassow and factors that influence their viability to assess their current conditions, including their resiliency, redundancy, representation, and their overall viability. We know of minimal occurrence records and both species are narrow endemics; thus, we assess resiliency, redundancy, and representation range wide for both species.

We gauge resiliency for the Sira curassow and southern helmeted curassow by evaluating their population abundance, the availability and condition of habitat throughout their respective ranges, and these species' life history traits that minimize their ability to rapidly recover from disturbances and population losses.

Both the Sira curassow and southern helmeted curassow are considered rare, locally uncommon, and decreasing (BLI 2023a, 2023b). The Sira curassow's population is very small (50-249 mature individuals); the southern helmeted curassow's population is also small, declined by 90 percent over the past 20 years, and is currently estimated at 1,000-4,999 individuals. The species are endemic to small areas in relatively narrow elevational bands. The species' ranges are mostly within protected areas that are intact forest landscapes that show no to minimal signs of human alteration. However, the species' habitats are subject to some deforestation resulting from small-scale illegal agriculture and road construction that spawns additional small-scale development. Over a 20-year period between 2000 and 2020, only 62 hectares (153 acres), or 0.16 percent, of forest cover has been lost within the range of the Sira curassow, and 27,320 hectares (67,509 acres), or 3.33 percent, of forest cover has been lost within the range of the southern helmeted curassow. Most of the forest cover loss in the region is outside the range of the species and outside the protected areas where the species occur. Although, human encroachment is increasing into the protected areas, particularly because of small-scale coca plantations.

Hunting is ongoing and will continue in the future. Both species are more likely to persist in patches located further from settlements and in forested landscapes with low human density, primarily because these areas would be unaffected, or minimally affected by hunting. The presence of local indigenous communities in addition to people from outside the protected areas that engage in small-scale agricultural activities or create inroads that further increase human presence into the species' habitats results in overexploitation of these species. Low rates of reproduction and slow recovery of these species' populations make it difficult for these species to tolerate high levels of continuous hunting. Because these species are endemic to small ranges and have population sizes that are decreasing, combined with low rates of reproduction and recovery, the Sira curassow and southern helmeted curassow are not likely to be resilient to ongoing threats.

We gauge redundancy of these species by assessing the number and distribution of their populations relative to any anticipated catastrophic events within the species' ranges. Redundancy also depends on availability of quality habitat throughout these species' respective ranges. Because most of the current habitat is intact, even though the species are restricted to relatively narrow ranges, we expect the species to have some level of redundancy. An increase of fires in humid forest habitat and road building that are directly drying the landscape, combined with climate change that causes suitable habitat to shift upslope and is expected to result in the loss of a substantial amount of montane forest ecosystems within these species' ranges in the future, could be catastrophic for these species in the future. We are not aware of any other catastrophic events anticipated within the range of these species that could lead to collapse of these species' populations.

The Sira curassow is known only from the Cerros del Sira region of central Peru in the El Sira Communal Reserve. Surveys in 2006 and 2008 observed the species in one population at four locations, all located within 30 km of each other (Gastañaga et al. 2011, p. 273). Because the population and range are very small, we assume the species has minimal redundancy. The southern helmeted curassow has moderate redundancy and is known to occur at 10 total sites in Amboró, Carrasco, and TIPNIS, which is an area that is likely to hold the largest remaining population (Armonía 2018, pp. 3-4; Armonía 2021, entire; Armonía 2022, unpaginated; Boorsma 2023, pers. comm). We have no information on the connectivity between populations (Armonía 2018, p. 7). The available data of population size and distribution for these species is minimal and there is uncertainty regarding the number of extant populations for both species throughout their ranges.

We gauge representation of these species by assessing their ability to adapt to changes in their physical and biological environments because the ability to adapt is essential for species' viability. Both species are restricted to narrow elevational bands of Yungas Forest and adjacent evergreen forest on the east side of the Andes Mountains. Microhabitats within these species' ranges are likely present because the birds move within their respective habitats in response to patchy resource availability. In 2014, these species were determined to be distinct species, but we have no information about the genetic diversity within each species and there is no information on the degree to which these species exhibit behavioral plasticity, so the ability to assess representation is limited.

As part of the SSA, we developed two future-condition scenarios to capture the range of uncertainties regarding future threats and the projected responses by the Sira curassow and southern helmeted curassow. The scenarios assumed an increased probability of forest cover loss, continued hunting pressure, and ongoing designation of the protected areas where the species occur. The best available information indicates that both species' populations and distributions will decline in the future. However, because we have determined that the Sira curassow and southern helmeted curassow meet the definition of an endangered species based on their current conditions (see Determinations for the Status of Sira Curassow and Southern Helmeted Curassow, below), we are not presenting the results of the future scenarios in this proposed rule. Please refer to the SSA report (Service 2023, entire) for the full analysis of future scenarios.

We note that, by using the SSA framework to guide our analysis of the scientific information documented in the SSA report, we have analyzed the cumulative effects of identified threats and conservation actions on the species. To assess the current and future condition of the species, we evaluate the effects of all the relevant factors that may be influencing the species, including threats and conservation efforts. Because the SSA framework considers not just the presence of the factors, but to what degree they collectively influence risk to the entire species, our assessment integrates the cumulative effects of the factors and replaces a standalone cumulative-effects analysis.

Determinations for the Status of Sira Curassow and Southern Helmeted Curassow

Section 4 of the Act (16 U.S.C. 1533) and its implementing regulations (50 CFR part 424) set forth the procedures for determining whether a species meets the definition of an endangered species or a threatened species. The Act defines an “endangered species” as a species in danger of extinction throughout all or a significant portion of its range and a “threatened species” as a species likely to become an endangered species within the foreseeable future throughout all or a significant portion of its range. The Act requires that we determine whether a species meets the definition of an endangered species or a threatened species because of any of the following factors: (A) The present or threatened destruction, modification, or curtailment of its habitat or range; (B) overutilization for commercial, recreational, scientific, or educational purposes; (C) disease or predation; (D) the inadequacy of existing regulatory mechanisms; or (E) other natural or manmade factors affecting its continued existence.

Status Throughout All of Its Range—Sira Curassow

We have carefully assessed the best scientific and commercial data available regarding the past, present, and future threats to the Sira curassow. The best available information indicates that the Sira curassow is a narrow endemic with a very small population size of 50 to 249 mature individuals that is decreasing (BLI 2023a; unpaginated; MacLeod and Gastañaga in litt. 2014, cited in BLI 2018a, unpaginated).

The species is known only from the Cerros del Sira region of central Peru in the El Sira Communal Reserve. The Sira curassow is not likely to be highly resilient to ongoing threats. The resilience of the Sira curassow is based on population abundance, the availability of quality habitat throughout its range, and the species' life history traits that minimize recovery from disturbances and population losses. The El Sira Communal Reserve has been somewhat successful at limiting the loss of forest cover from small-scale agriculture activities, although small-scale agriculture is increasing within the protected area. Over a 20-year period between 2000 and 2020, only 62 hectares (153 acres), or 0.16 percent, of forest cover has been lost within the range of the species. However, the species has historically faced and continues to face hunting pressure, and human incursions into the protected area are increasing.

Precise estimates of hunting pressure on the Sira curassow do not exist given the difficulty of monitoring and documenting hunting activities. Generally, curassows rank as the highest category of avian biomass taken by subsistence hunters (Strahl and Grajal 1991, p. 51). Local indigenous communities in addition to people from outside the protected areas that encroach into the species' habitat results in overexploitation of the species. Literature reviews of several species in the cracid family, including curassows, demonstrate that they are more likely to occur in forested landscapes with low human density and in patches located further from settlements, primarily because these forested areas would be unaffected, or minimally affected by hunting pressure (Kattan et al. 2016, pp. 27-28; Rios et al. 2021, pp. 416-418; Thorton et al. 2012, p. 572). The viability of the Sira curassow is likely more affected by hunting than habitat loss and degradation, although habitat loss and hunting pressure often work in tandem because incursions into forested areas for small-scale agriculture and roadbuilding create more opportunities for hunters (Rios et al. 2021, p. 418).

Climate change has caused and will cause a loss of the species' habitat, which is particularly detrimental to endemic species that are restricted to narrow elevational bands (Velasquez-Tibata et al. 2012, p. 235). Climate change shifts the species' habitat upslope, reducing the species' range because the geometric shape of mountains means there is less area on mountain slopes as elevation increases (Chen et al. 2011, entire; Freeman et al. 2018, p. 11983; Forero-Medina et al. 2011, entire; Sekercioglu et al. 2012, p. 3). Even though birds are endothermic and may tolerate a wider range of temperatures, the Sira curassow is not known to have great dispersal capabilities, making them unlikely to colonize new areas if their current habitat is damaged by climate change and other anthropogenic factors (Foster 2001, p. 73).

We are not aware of the number of Sira curassow populations that occur within its limited range in the El Sira Mountains because the species is not well studied and rangewide surveys for the species do not exist, but the best available information indicates that the species has a low area of occurrence and occupancy. Because the population size and its range are very small, we find the species likely has minimal redundancy throughout its range. We are also not aware of any information about the genetic diversity in the Sira curassow, and there is no information on the degree to which the species exhibits behavioral plasticity, so the ability to assess representation is limited for the species. However, the species likely has low representation because it is endemic to the El Sira Mountains and occurs only within 550 square kilometers (212 square miles) in a narrow elevational band.

Overall, the species has a very small population and is considered rare, locally uncommon, and its population is decreasing (BLI 2023a, unpaginated). The species is long-lived, has a long generation time and low reproductive output. Low reproductive output in conjunction with other factors like a high degree of habitat specialization, small population size, and low vagility (ability of an organism to move freely) typically equate to low innate adaptive capacity (Thurman et al. 2020, entire). The Sira curassow's low redundancy combined with the species not likely being highly resilient to ongoing threats and having minimal capacity to adapt to ongoing threats limits the viability of the Sira curassow in the face of ongoing threats. After assessing the best scientific and commercial information available, we conclude that the Sira curassow currently lacks sufficient resiliency, redundancy, and representation for its continued existence to be secure.

Thus, after evaluating the best scientific and commercial data available regarding threats to the species and assessing the cumulative effect of the threats under the Act's section 4(a)(1) factors, we determine that the Sira curassow is in danger of extinction throughout all of its range. The species does not fit the statutory definition of a threatened species because it is currently in danger of extinction, whereas threatened species are those likely to become in danger of extinction within the foreseeable future.

Status Throughout All of Its Range—Southern Helmeted Curassow

We have carefully assessed the best scientific and commercial information available regarding the past, present, and future threats to the southern helmeted curassow. The best available information indicates that the southern helmeted curassow is a narrow endemic with a small population size of 1,000 to 4,999 mature individuals that is decreasing (BLI 2023b, unpaginated; BLI 2018b, unpaginated).

The southern helmeted curassow is not likely to be highly resilient to ongoing threats. The species' resiliency is based on population abundance, the availability of quality habitat throughout its range, and the species' life history traits that minimize recovery from disturbances and population losses. Even though the species resides in three national parks in central Bolivia that have been somewhat successful at limiting the loss of forest cover from small-scale agriculture activities, small-scale agriculture is increasing within the protected areas, particularly because of coca plantations. Over a 20-year period between 2000 and 2020, 27,320 hectares (67,509 acres), or 3.33 percent, of forest cover has been lost within the range of the species. The southern helmeted curassow is likely more affected by hunting than habitat loss and degradation (Rios et al. 2021, p. 418). The species has historically faced and continues to face hunting pressure. Hunting increases with associated habitat loss, and human incursions into the protected areas are increasing.

Precise estimates of hunting pressure do not exist given the difficulty of monitoring and documenting hunting activities. Between 2001 and 2004, surveys showed that the largest known population of southern helmeted curassow declined from 20 singing males to zero because the birds were hunted by incursions of coca growers into the area (MacLeod et al. 2006, p. 62; MacLeod 2009, p. 16). However, in 2017-2018, curassows were observed at this site (Boorsma 2023, pers. comm.). Additionally, in TIPNIS, there are records of southern helmeted curassows being hunted and eaten by community members (Boorsma 2023, pers. comm.). Local indigenous communities in addition to people from outside the protected areas that encroach into the species' habitat results in overexploitation of the species. Generally, curassows rank as the highest category of avian biomass taken by subsistence hunters (Strahl and Grajal 1991, p. 51). Literature reviews of several cracid species, including curassows, demonstrate that they are more likely to occur in forested landscapes with low human density and in patches located further from settlements (Kattan et al. 2016, pp. 27-28; Rios et al. 2021, pp. 416-418; Thorton et al. 2012, p. 572).

Climate change has caused and will cause a loss of the species' habitat, which is particularly detrimental to endemic species that are restricted to narrow elevational bands (Velasquez-Tibata et al. 2012, p. 235). Climate change shifts the species' habitat upslope, reducing the species' range because the geometric shape of mountains means there is less area on mountain slopes as elevation increases (Chen et al. 2011, entire; Freeman et al. 2018, p. 11983; Forero-Medina et al. 2011, entire; Sekercioglu et al. 2012, p. 3). Even though birds are endothermic and may tolerate a wider range of temperatures, the southern helmeted curassow is not known to have great dispersal capabilities, making them unlikely to colonize new areas if their current habitat is damaged by climate change and other anthropogenic factors (Foster 2001, p. 73).

The best available data indicates the southern helmeted curassow is known from 10 locations spread throughout the 3 national parks; we are not aware of any information regarding the connectivity between the known occurrences. Therefore, even though the species' population and range are small, the species has some redundancy throughout its range. However, the species' range is smaller than it was historically, and its population has been reduced by 90 percent over the past 20 years (Armonía 2018, p. 7; Boorsma 2023, pers. comm). We are not aware of any information about the genetic diversity in the southern helmeted curassow, and there is no information on the degree to which the species exhibits behavioral plasticity, so the ability to assess representation is limited for the species. However, the species likely has low representation because it is endemic to the three national parks within a narrow elevational band and occurs only within 10,700 square kilometers (2,644,028 acres).

Overall, the species has a small population and is considered rare, locally uncommon, and its population is decreasing (BLI 2018b, unpaginated; Birds of Bolivia 2019, unpaginated; BLI 2023b, unpaginated). The species is long-lived, has a long generation time, and low reproductive output. Low reproductive output in conjunction with other factors like a high degree of habitat specialization, small population size, and low vagility typically equates to low innate adaptive capacity (Thurman et al. 2020, entire). The southern helmeted curassow's moderate redundancy combined with the species not likely being highly resilient to ongoing threats and having minimal capacity to adapt to ongoing threats limits the viability of the southern helmeted curassow in the face of ongoing threats. After assessing the best scientific and commercial information available, we conclude that the southern helmeted curassow currently lacks sufficient resiliency, redundancy, and representation for its continued existence to be secure.

Thus, after evaluating the best scientific and commercial data available regarding threats to the species and assessing the cumulative effect of the threats under the Act's section 4(a)(1) factors, we determine that the southern helmeted curassow is in danger of extinction throughout all of its range. The species does not fit the statutory definition of a threatened species because it is currently in danger of extinction, whereas threatened species are those likely to become in danger of extinction within the foreseeable future.

Status Throughout a Significant Portion of Their Ranges

Under the Act and our implementing regulations, a species may warrant listing if it is in danger of extinction or likely to become so in the foreseeable future throughout all or a significant portion of its range. We have determined that the Sira curassow is in danger of extinction throughout all of its range, and the southern helmeted curassow is in danger of extinction throughout all of its range, and accordingly did not undertake an analysis of any significant portion of their ranges. Because the Sira curassow and southern helmeted curassow warrant listing as endangered throughout all of their ranges, our determination does not conflict with the decision in Center for Biological Diversity v. Everson, 435 F. Supp. 3d 69 (D.D.C. 2020), which vacated the provision of the Final Policy on Interpretation of the Phrase “Significant Portion of Its Range” in the Endangered Species Act's Definitions of “Endangered Species” and “Threatened Species” (79 FR 37578, July 1, 2014) providing that if the Services determine that a species is threatened throughout all of its range, the Services will not analyze whether the species is endangered in a significant portion of its range.

Determination of Status for the Sira Curassow and Southern Helmeted Curassow

Our review of the best available scientific and commercial data indicates that both the Sira curassow and the southern helmeted curassow meet the definition of an endangered species. Therefore, in accordance with sections 3(6) and 4(a)(1) of the Act, we propose to add the Sira curassow and southern helmeted curassow as endangered species to the List of Endangered and Threatened Wildlife in 50 CFR 17.11(h).

Available Conservation Measures

The purposes of the Act are to provide a means whereby the ecosystems upon which endangered species and threatened species depend may be conserved, to provide a program for the conservation of such endangered species and threatened species, and to take such steps as may be appropriate to achieve the purposes of the treaties and conventions set forth in the Act. Under the Act, a number of steps are available to advance the conservation of species listed as endangered or threatened species. As explained further below, these conservation measures include: (1) recognition, (2) recovery actions, (3) requirements for Federal protection, (4) financial assistance for conservation programs, and (5) prohibitions against certain activities.

Recognition through listing results in public awareness, as well as in conservation by Federal, State, Tribal, and local agencies, foreign governments, private organizations, and individuals. The Act encourages cooperation with the States and other countries and calls for recovery actions to be carried out for listed species.

Our regulations at 50 CFR part 402 implement the interagency cooperation provisions found under section 7 of the Act. Under section 7(a)(1) of the Act, Federal agencies are to use, in consultation with and with the assistance of the Service, their authorities in furtherance of the purposes of the Act. Section 7(a)(2) of the Act, as amended, requires Federal agencies to ensure, in consultation with the Service, that any action authorized, funded, or carried out by such agency is not likely to jeopardize the continued existence of a listed species or result in destruction or adverse modification of its critical habitat.

A Federal “action” that is subject to the consultation provisions of section 7(a)(2) is defined in our implementing regulations at 50 CFR 402.02 as all activities or programs of any kind authorized, funded, or carried out, in whole or in part, by Federal agencies in the United States or upon the high seas. With respect to the Sira curassow and southern helmeted curassow, no known actions require consultation under section 7(a)(2) of the Act. Given the regulatory definition of “action,” which clarifies that it applies to activities or programs “in the United States or upon the high seas,” the Sira curassow and southern helmeted curassow are unlikely to be the subject of section 7 consultations, because the entire life cycles of the species occur in terrestrial areas outside of the United States and are unlikely to be affected by U.S. Federal actions. Additionally, no critical habitat will be designated for these species because, under 50 CFR 424.12(g), we will not designate critical habitat within foreign countries or in other areas outside of the jurisdiction of the United States.

Section 8(a) of the Act (16 U.S.C. 1537(a)) authorizes the provision of limited financial assistance for the development and management of programs that the Secretary of the Interior determines to be necessary or useful for the conservation of endangered or threatened species in foreign countries. Sections 8(b) and 8(c) of the Act (16 U.S.C. 1537(b) and (c)) authorize the Secretary to encourage conservation programs for foreign listed species, and to provide assistance for such programs, in the form of personnel and the training of personnel.

The Act puts in place prohibitions against particular actions. When a species is listed as endangered, certain actions are prohibited under section 9 of the Act and are implemented through our regulations in 50 CFR 17.21. For endangered wildlife, these include prohibitions under section 9(a)(1) of the Act on import; export; delivery, receipt, carriage, transport, or shipment in interstate or foreign commerce, by any means whatsoever and in the course of commercial activity; and sale or offer for sale in interstate or foreign commerce of any endangered species. It is also illegal to take within the United States or on the high seas; or to possess, sell, deliver, carry, transport, or ship, by any means whatsoever, any endangered species that have been taken in violation of the Act. It is unlawful to attempt to commit, to solicit another to commit or to cause to be committed, any of these acts. Exceptions to the prohibitions for endangered species may be granted in accordance with section 10 of the Act and our regulations at 50 CFR 17.22.

We may issue permits to carry out otherwise prohibited activities involving endangered wildlife species under certain circumstances. Regulations governing permits for endangered species are codified at 50 CFR 17.22, and general Service permitting regulations are codified at 50 CFR part 13. With regard to endangered wildlife, a permit may be issued: for scientific purposes, for enhancing the propagation or survival of the species, or for take incidental to otherwise lawful activities. The statute also contains certain exemptions from the prohibitions, which are found in sections 9 and 10 of the Act.

The Service may also register persons subject to the jurisdiction of the United States through its captive-bred wildlife (CBW) program if certain established requirements are met under the CBW regulations (see 50 CFR 17.21(g)). Through a CBW registration, the Service may allow a registrant to conduct certain otherwise prohibited activities under certain circumstances to enhance the propagation or survival of the affected species, including take; export or re-import; delivery, receipt, carriage, transport, or shipment in interstate or foreign commerce in the course of a commercial activity; or sale or offer for sale in interstate or foreign commerce. A CBW registration may authorize interstate purchase and sale only between entities that both hold a registration for the taxon concerned. The CBW program is available for species having a natural geographic distribution not including any part of the United States and other species that the Service Director has determined to be eligible by regulation. The individual specimens must have been born in captivity in the United States.

It is our policy, as published in the Federal Register on July 1, 1994 (59 FR 34272), to identify to the maximum extent practicable at the time a species is listed, those activities that would or would not constitute a violation of section 9 of the Act. The intent of this policy is to increase public awareness of the effect of a listing on proposed and ongoing activities within the range of the species.

At this time, we are unable to identify specific activities that will not be considered likely to result in a violation of section 9 of the Act beyond what is already clear from the descriptions of prohibitions or already excepted through our regulations at 50 CFR 17.21. Also, as discussed above, certain activities that are prohibited under section 9 may be permitted under section 10 of the Act. Additionally, we are unable to identify specific activities that will be considered likely to result in a violation of section 9 of the Act beyond what is already clear from the descriptions of the prohibitions at 50 CFR 17.21.

Applicable wildlife import/export requirements established under Section 9(d)-(f) of the Act, the Lacey Act Amendments of 1981 (16 U.S.C. 3371, et seq.), and 50 CFR part 14 must also be met for the Sira curassow and southern helmeted curassow imports and exports. Questions regarding whether specific activities would constitute a violation of section 9 of the Act should be directed to the Management Authority (managementauthority@fws.gov; 703-358-2104).

Required Determinations

Clarity of the Rule

We are required by Executive Orders 12866 and 12988 and by the Presidential Memorandum of June 1, 1998, to write all rules in plain language. This means that each rule we publish must:

(1) Be logically organized;

(2) Use the active voice to address readers directly;

(3) Use clear language rather than jargon;

(4) Be divided into short sections and sentences; and

(5) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

National Environmental Policy Act (42 U.S.C. 4321 et seq.)

We have determined that environmental assessments and environmental impact statements, as defined under the authority of the National Environmental Policy Act (42 U.S.C. 4321 et seq.), need not be prepared in connection with listing a species as an endangered or threatened species under the Endangered Species Act. We published a notice outlining our reasons for this determination in the Federal Register on October 25, 1983 (48 FR 49244).

References Cited

A complete list of references cited in this rulemaking is available on the internet at https://www.regulations.gov in Docket No. FWS-HQ-ES-2023-0053 and upon request from the Headquarters Ecological Services Field Office (see FOR FURTHER INFORMATION CONTACT).

Authors

The primary authors of this proposed rule are the staff members of the Fish and Wildlife Service's Species Assessment Team and the Branch of Delisting and Foreign Species.

List of Subjects in 50 CFR Part 17

Endangered and threatened species, Exports, Imports, Plants, Reporting and recordkeeping requirements, Transportation, Wildlife.

Proposed Regulation Promulgation

Accordingly, we propose to amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; and 4201-4245, unless otherwise noted.

2. In § 17.11, amend paragraph (h) by adding an entry for “Curassow, Sira” and an entry for “Curassow, southern helmeted” to the List of Endangered and Threatened Wildlife in alphabetical order under BIRDS to read as follows:

§ 17.11 Endangered and threatened wildlife.

* * * * *

(h) * * *

Common name | Scientific name | Where listed | Status | Listing citations and applicable rules
* * * * * * *
Birds
* * * * * * *
Curassow, Sira | Pauxi koepckeae | Wherever found | E | [Federal Register citation when published as a final rule].
Curassow, southern helmeted (=horned curassow) | Pauxi unicornis | Wherever found | E | [Federal Register citation when published as a final rule].
* * * * * * *

Martha Williams,
Director, U.S. Fish and Wildlife Service.

[FR Doc. 2023-11471 Filed 5-30-23; 8:45 am]

BILLING CODE 4333-15-P